DEPARTMENT OF THE INTERIOR

Fish and Wildlife Service

Issuance of Permit for Incidental Take of Threatened Species for the City and County of Denver, Acting by and Through Its Board of Water Commissioners, Denver, CO

AGENCY: Fish and Wildlife Service, Interior.

ACTION: Notice of issuance of permit for incidental take of threatened species.

SUMMARY: On February 11, 2003, notice was published in the Federal Register (68 FR 6756) that an application had been filed with the Fish and Wildlife Service (Service) by the City and County of Denver, acting by and through its Board of Water Commissioners for a permit to incidentally take Preble's meadow jumping mouse (Zapus hudsonius preblei), pursuant to section 10(a)(1)(B) of the Endangered Species Act of 1973 (Act) (16 U.S.C. 1539), as amended. The “Environmental Assessment/Habitat Conservation Plan for the Issuance of an Endangered Species Act Section 10(a)(1)(B) Permit for the Incidental Take of the Preble's Meadow Jumping Mouse (Zapus hudsonius preblei) for the City and County of Denver's Board of Water Commissioners in Boulder, Jefferson, and Douglas Counties, Colorado,” accompanied the permit application.

Notice is hereby given that on May 2, 2003, as authorized by the provisions of the Act, the Service issued a permit (TE-068418-0) to the above named party subject to certain conditions set forth therein. The permit was granted only after the Service determined that it was applied for in good faith, that granting the permit will not be to the disadvantage of the threatened species, and that it will be consistent with the purposes and policy set forth in the Act.

Additional information on this permit action may be requested by contacting the Colorado Field Office, 755 Parfet Street, Suite 361, Lakewood, Colorado 80215, telephone (303) 275-2370, between the hours of 7 a.m. and 4:30 p.m. weekdays.

Dated: April 30, 2003.
John A. Blankenship,
Regional Director, Region 6.

[FR Doc. 03-13783 Filed 6-2-03; 8:45 am]

BILLING CODE 4310-55-P